ENVIRONMENTAL PROTECTION AGENCY

[EPA-HQ-OW-2008-0719, FRL 9513-8]

Agency Information Collection Activities; Submission to OMB for Review and Approval; Comment Request; NPDES and Sewage Sludge Monitoring Reports (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR describes the nature of the information collection and its estimated burden and cost.

DATES: Additional comments may be submitted on or before April 23, 2012.

ADDRESSES: Submit your comments, referencing Docket ID No. EPA-HQ-OW-2008-0719 to (1) EPA online using www.regulations.gov (our preferred method), by email to ow-docket@epa.gov, or by mail to: EPA Docket Center, Environmental Protection Agency, Water Docket, Mail Code 28221T, 1200 Pennsylvania Ave. NW., Washington, DC 20460, and (2) OMB at: Office of Information and Regulatory Affairs, Office of Management and Budget (OMB), Attention: Desk Officer for EPA, 725 17th Street NW., Washington, DC 20503.

FOR FURTHER INFORMATION CONTACT: Amelia Letnes, State and Regional Branch, Water Permits Division, OWM Mail Code: 4203M, Environmental Protection Agency, 1200 Pennsylvania Ave. NW., Washington, DC 20460; telephone number: (202) 564-5627; email address: letnes.amelia@epa.gov.

SUPPLEMENTARY INFORMATION: EPA has submitted the following ICR to OMB for review and approval according to the procedures prescribed in 5 CFR 1320.12. On December 28, 2011 (76 FR 81488), EPA sought comments on this ICR pursuant to 5 CFR 1320.8(d). EPA received no comments during the comment period. Any additional comments on this ICR should be submitted to EPA and OMB within 30 days of this notice.

EPA has established a public docket for this ICR under Docket ID No. EPA-HQ-OW-2008-0719, which is available for online viewing at http://www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov to submit or view public comments, access the index listing of the contents of the docket, and to access those documents in the docket that are available electronically. Once in the system, select “search,” then key in the docket ID number identified in this document. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: National Pollutant Discharge Elimination System (NPDES) Program (Renewal).

ICR Number: EPA ICR No. 0229.20, OMB Control No. 2040-0004.

ICR Status: This ICR is scheduled to expire on March 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The objective of the Clean Water Act (CWA) is to restore and maintain the chemical, physical, and biological integrity of the nation's waters (CWA section 101). The NPDES program, established under CWA section 402, is an important tool for controlling pollutant discharges. The CWA authorizes the Agency to issue permits for the discharge of pollutants to waters of the United States. The Agency regulates point source discharges of pollutants to waters of the United States under its NPDES program. CWA section 402(b) allows states (defined to include Indian tribes and U.S. territories) to acquire authority for the NPDES program. This authority enables them to issue and administer NPDES permits. At present, 46 NPDES-authorized states and the U.S. Virgin Islands have NPDES permit program authority, but only eight states have received authorization to manage the Biosolids (Sludge) Program. In states that do not have authority for these programs, the Agency issues and administers NPDES permits. Because some permit applications are processed by states and some by EPA, this ICR calculates government burden and costs for both states and EPA.

Burden Statement: The annual public reporting and recordkeeping burden for this collection of information is estimated to average 4.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Estimated Number of Respondents: 398,340 (397,703 facilities and 637 States/Tribes/Territories).

Frequency of Response: Once, every five years, annually, semi-annually, quarterly, bimonthly, monthly, biweekly, weekly, daily, ongoing, occasionally/as needed.

Estimated Total Annual Hour Burden: 21,324,741 hours.

Estimated Total Annual Cost: $1,014,324,384 includes $211,074 annualized capital costs and $18,551,848 annualized O&M costs.

Change in Burden: There is a decrease of 9,618,566 hours in the total estimated burden currently identified in the OMB Inventory of Approved ICR Burdens. This decrease in burden corresponds to 31 percent of the overall burden. The main reasons for the change in burden is that EPA generated a new estimate of construction sites based on data collected for the development of the final Construction Effluent Limitation Guidelines. The Agency revised its estimate of the number of large and small construction sites covered by this ICR downward from 243,076 to 84,472 sites annually. The impact of this change in the number of construction sites is a decrease of 8,051,315 hours.

Some other specific reasons for burdens changes are presented below:

• EPA's continuous effort to improve the quality of data in its PCS and ICIS-NPDES. This change could reflect more accurate data rather than a significant change in the number of permits actually administered. This change is particularly important for activities related to general permittees because in previous ICRs, EPA based the calculation on best professional estimates; whereas, for this ICR, the Agency has real inventory numbers from PCS and ICIS-NPDES.

• All CSO permits or enforcement orders have fulfilled the obligation of Phase I technology-based CSO control requirements (Nine Minimum Controls).

• Previously, EPA accounted for 6 hours per CAAP facilities to submit Form 2b and 0.5 hours per application per state to process and review the form. This burden from CAAP facilities and states has been transferred to the Animal Sectors ICR (OMB Control No. 2040-0250).

• In the previous ICR, EPA accounted for the state burden of 24 hours per pretreatment compliance inspection, but this burden has been transferred to the Pretreatment ICR (OMB Control No. 2040-0009).

John Moses,
Director, Collection Strategies Division.

[FR Doc. 2012-6875 Filed 3-21-12; 8:45 am]

BILLING CODE 6560-50-P